DEPARTMENT OF EDUCATION

Institute of Education Sciences; Overview Information; Small Business Innovation Research Program—Phase I Notice Inviting Applications for New Awards for Fiscal Year (FY) 2004

Catalog of Federal Domestic Assistance (CFDA) Number: 84.305S

Dates:

Applications Available: December 22, 2003.

Deadline for Transmittal of Applications: 8 p.m. Eastern time, February 19, 2004.

Eligible Applicants: Each organization submitting an application must qualify as a small business concern as defined by the Small Business Administration (SBA) at the time of the award. This definition is included in the application package.

Firms with strong research capabilities in educational technologies, science, or engineering in any of the priority areas listed in the application package are encouraged to participate. Consultative or other arrangements between these firms and universities or other non-profit organizations are permitted, but the small business must serve as the grantee.

If it appears that an applicant organization does not meet the eligibility requirements, we will request an evaluation by the SBA. Under circumstances in which eligibility is unclear, we will not make a Small Business Innovation Research (SBIR) award until the SBA makes a determination.

Estimated Available Funds: Approximately $3,000,000 for this competition for Phase I awards from the Institute of Education Sciences (Institute). The National Institute on Disability and Rehabilitation Research will announce another Phase I competition later in the fiscal year.

Estimated Range of Awards: $75,000 to $100,000.

Estimated Average Size of Awards: Approximately $100,000.

Maximum Award: We will reject any application that proposes a budget exceeding $100,000 for a single budget period of 6 months.

Estimated Number of Awards: 30 to 35.

Note: The Department is not bound by any estimates in this notice.

Project Period: Up to 6 months for Phase I awards. Full Text of Announcement.

I. Funding Opportunity Description

Purpose of Program: The purpose of this program is to stimulate technological innovation, strengthen the role of small business in meeting Department of Education research or research and development (R/R&D) needs, and increase the commercial application of innovations derived from Department-supported research or research and development.

For FY 2004, applicants must present activities that focus on priorities listed in the Priorities section of this application notice.

Priorities:

For FY 2004, we have selected two priorities for the SBIR program. An application must be limited to one priority listed in this notice. Duplicate applications will be returned without review. When an application is relevant to more than one priority, the applicant must decide which priority is most relevant and submit it under that priority only. However, there is no limitation on the number of different applications that an applicant may submit under this competition, even to the same priority. A firm may submit separate applications on different priorities, or different applications on the same priority, but each application should respond to only one priority.

Priorities

We invite applications that meet one of the following priorities. Awards for each priority will be made for amounts up to $100,000.

Priority 1—Services

This priority supports research to develop effective business consulting services that can better serve the education community at both the local and State levels. The Institute's SBIR program invites proposals that seek to develop a plan or a business model for the provision of such services. More details about this priority can be found in the application package.

Priority 2—Products

This priority supports the development of empirically derived educational products in the areas of reading, mathematics, science or character/pro-social development at the pre-kindergarten through postsecondary levels, including products that support teachers and administrators as well as products that are used directly by students. More details about this priority can be found in the application package.

Successful applicants will be expected to collect some empirical evidence as to the effectiveness of the service or product they are proposing, or, at a minimum, to incorporate a plan for measuring its efficacy and usefulness.

Program Authority: The Small Business Reauthorization Act of 2000, Pub. L. 106-554 (15 U.S.C. 631 and 638) and the Education Sciences Reform Act of 2002, Title I of Pub. L. 107-279 (20 U.S.C. 9501 et seq.).

Applicable Regulations: The Education Department General Administrative Regulations (EDGAR) in 34 CFR parts 74, 77, 81, 82, 85, 86, 97, 98 and 99. In addition 34 CFR part 75 is applicable, except for the provisions in 34 CFR 75.100, 75.101(b), 75.102, 75.103, 75.105, 75.109(a), 75.200, 75.201, 75.209, 75.210, 75.211, 75.217, 75.219, 75.220, and 75.230.

II. Award Information

Type of Award: Discretionary grants.

Estimated Available Funds: Approximately $3,000,000 for Phase I awards for this competition from the Institute. The National Institute on Disability and Rehabilitation Research will announce another Phase I competition later in the fiscal year.

Estimated Range of Awards: $75,000 to $100,000.

Estimated Average Size of Awards: Approximately $100,000.

Maximum Award: We will reject any application that proposes a budget exceeding $100,000 for a single budget period of 6 months.

Estimated Number of Awards: 30 to 35.

Note: The Department is not bound by any estimates in this notice.

Project Period: Up to 6 months for Phase I awards.

III. Eligibility Information

1. Eligible Applicants: Each organization submitting an application must qualify as a small business concern as defined by the SBA at the time of the award. This definition is included in the application package.

Firms with strong research capabilities in educational technologies, science, or engineering in any of the priority areas listed in the application package are encouraged to participate. Consultative or other arrangements between these firms and universities or other non-profit organizations are permitted, but the small business must serve as the grantee.

If it appears that an applicant organization does not meet the eligibility requirements, we will request an evaluation by the SBA. Under circumstances in which eligibility is unclear, we will not make an SBIR award until the SBA makes a determination.

2. Cost Sharing or Matching: This program does not involve cost sharing or matching.

IV. Application and Submission Information

1. Address to Request Application Package: The application package is available at: http://www.ed.gov/programs/edresearch/applicant.html.

You may address questions regarding this application package to: Joe Teresa, U.S. Department of Education, Institute of Education Sciences, 555 New Jersey Avenue, NW., room 608f, Washington, DC 20208. Telephone: (202) 219-2046 or by e-mail: joe.teresa@ed.gov.

If you use a telecommunications device for the deaf (TDD), you may call the Federal Information Relay Service (FIRS) at 1-800-877-8339.

Individuals with disabilities may obtain a copy of the application package in an alternative format (e.g., Braille, large print, audiotape, or computer diskette) by contacting the program contact person listed in this section. However, the Department is not able to reproduce in an alternative format the standard forms included in the application package.

2. Content and Form of Application Submission: Requirements concerning the content of an application, together with information about the forms you must submit, are in the application package for this program. The application package is available at: http://www.ed.gov/programs/edresearch/applicant.html.

3. Submission Dates and Times:

Applications Available: December 22, 2003.

Deadline for Transmittal of Applications: 8 p.m. Eastern time, February 19, 2004. The date and time for the transmittal of electronic applications are in the application package for this program.

We do not consider an application that does not comply with the deadline requirements.

4. Intergovernmental Review: This program is not subject to Executive Order 12372 and the regulations in 34 CFR part 79.

5. Funding Restrictions: We reference regulations outlining funding restrictions in the Applicable Regulations section of this notice.

6. Other Submission Requirements: The Government Paperwork Elimination Act (GPEA) of 1998, (Pub. L. 105-277) and the Federal Financial Assistance Management Improvement Act of 1999, (Pub. L. 106-107) encourage us to undertake initiatives to improve our grant processes. Enhancing the ability of individuals and entities to conduct business with us electronically is a major part of our response to these Acts. Therefore, we are taking steps to adopt the Internet as our chief means of conducting transactions in order to improve services to our customers and to simplify and expedite our business processes.

We are requiring that applications for grants under the Institute's FY 2004 SBIR Phase I competition be submitted electronically to the following Web site: http://ies.constellagroup.com.

Information on the software to be used will also be available at this site.

V. Application Review Information

Selection Criteria: The evaluation criteria for this competition are: Significance—25 points; Quality of the Project Design—50 points; Quality of Project Personnel—15 points; and Adequacy of Resources—10 points.

More information about the evaluation criteria and about other application requirements can be found in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as required by the Institute. The report should identify the purpose of the research, and include a brief description of the research carried out, the research findings or results, and the potential applications of the research. You must submit this project summary without restriction on publication. The project summary may be published by the U.S. Department of Education.

VII. Agency Contact

For Further Information Contact: Joe Teresa, U.S. Department of Education, Institute of Education Sciences, 555 New Jersey Avenue, NW., room 608f, Washington, DC 20208. Telephone: (202) 219-2046 or by e-mail: joe.teresa@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: December 17, 2003.
Grover J. Whitehurst,
Director, Institute of Education Sciences.

[FR Doc. 03-31446 Filed 12-19-03; 8:45 am]

BILLING CODE 4000-01-P